ENVIRONMENTAL PROTECTION AGENCY

40 CFR Part 52

[EPA-R09-OAR-2008-0884 FRL-8771-2]

Approval and Promulgation of Implementation Plans; Hawaii; Correction

AGENCY: Environmental Protection Agency (EPA).

ACTION: Proposed rule.

SUMMARY: Under the Clean Air Act, EPA is proposing to correct errors in certain final rules approving or compiling the Hawaii state implementation plan. These errors relate to the title of the plan, removal of variance provisions, and compilations of federally enforceable regulations. The intended effect is to ensure that the Hawaii state implementation plan is correctly identified in the applicable part of the Code of Federal Regulations.

DATES: Any comments on this proposal must arrive by April 15, 2009.

ADDRESSES: Submit comments, identified by docket number EPA-R09-OAR-2008-0884, by one of the following methods:

1. Federal eRulemaking Portal: www.regulations.gov. Follow the online instructions.

2. E-mail: vagenas.ginger@epa.gov.

3. Mail or deliver: Ginger Vagenas (AIR-2), U.S. Environmental Protection Agency Region IX, 75 Hawthorne Street, San Francisco, CA 94105-3901.

Instructions: All comments will be included in the public docket without change and may be made available online at www.regulations.gov, including any personal information provided, unless the comment includes Confidential Business Information (CBI) or other information whose disclosure is restricted by statute. Information that you consider CBI or otherwise protected should be clearly identified as such and should not be submitted through www.regulations.gov or e-mail. The www.regulations.gov portal is an “anonymous access” system, and EPA will not know your identity or contact information unless you provide it in the body of your comment. If you send e-mail directly to EPA, your e-mail address will be automatically captured and included as part of the public comment. If EPA cannot read your comment due to technical difficulties and cannot contact you for clarification, EPA may not be able to consider your comment.

Docket: The index to the docket for this action is available electronically at www.regulations.gov and in hard copy at EPA Region IX, 75 Hawthorne Street, San Francisco, California. While all documents in the docket are listed in the index, some information may be publicly available only at the hard copy location (e.g., copyrighted material), and some may not be publicly available in either location (e.g., CBI). To inspect the hard copy materials, please schedule an appointment during normal business hours with the contact listed in the FOR FURTHER INFORMATION CONTACT section.

FOR FURTHER INFORMATION CONTACT: Ginger Vagenas, Plannning Office (AIR-2), U.S. Environmental Protection Agency, Region IX, (415) 942-3964, vagenas.ginger@epa.gov.

SUPPLEMENTARY INFORMATION: This proposal addresses corrections to errors made by EPA in a 1997 final rule removing variance-related provisions from the Hawaii SIP and in a 2005 final rule compiling the Hawaii SIP. In the Rules and Regulations section of this Federal Register, we are correcting these errors in a direct final action without prior proposal because we believe these actions are not controversial.

If we receive adverse comments, however, we will publish a timely withdrawal of the direct final rule and address the comments in subsequent action based on this proposed rule. Please note that if we receive adverse comment on an amendment, paragraph, or section of this rule and if that provision may be severed from the remainder of the rule, we may adopt as final those provisions of the rule that are not the subject of an adverse comment.

We do not plan to open a second comment period, so anyone interested in commenting should do so at this time. If we do not receive adverse comments, no further activity is planned. For further information, please see the direct final action.

Dated: February 25, 2009.
Jane Diamond,
Acting Regional Administrator, Region IX.

[FR Doc. E9-4800 Filed 3-13-09; 8:45 am]

BILLING CODE 6560-50-P